DEPARTMENT OF ENERGY

Federal Energy Regulatory Commission

Combined Notice of Filings #1

October 13, 2010.

Take notice that the Commission received the following electric corporate filings:

Docket Numbers: EC10-85-001.

Applicants: Mystic Development, LLC, Fore River Development, LLC, Boston Generating, LLC, Mystic I, LLC, Constellation Mystic Power, LLC.

Description: Response to Deficiency Letter and Request for Shortened Comment Period and Expedited Review of Fore River Development, LLC, et. al.

Filed Date: 10/08/2010.

Accession Number: 20101008-5184.

Comment Date: 5 p.m. Eastern Time on Monday, November 8, 2010.

Docket Numbers: EC11-4-000.

Applicants: Conectiv Energy Supply, Inc.

Description: Application for approval under Section 203 of the Federal Power Act and request for expedited treatment and shortened comment period.

Filed Date: 10/07/2010.

Accession Number: 20101008-0201.

Comment Date: 5 p.m. Eastern Time on Thursday, October 28, 2010.

Docket Numbers: EC11-5-000.

Applicants: Morgan Stanley.

Description: Request for Reauthorization and Extension of Existing Blanket Authorization to Acquire Securities under Section 203(a)(2) of the FPA and Request for Expedited Action of Morgan Stanley.

Filed Date: 10/08/2010.

Accession Number: 20101008-5171.

Comment Date: 5 p.m. Eastern Time on Friday, October 29, 2010.

Take notice that the Commission received the following electric rate filings:

Docket Numbers: ER95-1528-022.

Applicants: Wisconsin Public Service Corporation.

Description: Notice of Non-Material Change in Status for Market-Based Rate Authority of Wisconsin Public Service Corporation.

Filed Date: 10/07/2010.

Accession Number: 20101007-5168.

Comment Date: 5 p.m. Eastern Time on Thursday, October 28, 2010.

Docket Numbers: ER97-324-020; ER97-3834-026.

Applicants: DTE Energy Trading, Inc., The Detroit Edison Company

Description: Application of The Detroit Edison Company and DTE Energy Trading, Inc. for Continued Waiver of Affiliate Restrictions related to The Detroit Edison Company's Summer 2011 Auction for Capacity.

Filed Date: 10/12/2010.

Accession Number: 20101012-5365.

Comment Date: 5 p.m. Eastern Time on Tuesday, November 2, 2010.

Docket Numbers: ER10-1520-001; ER10-1521-001; ER10-1522-001.

Applicants: Occidental Power Services, Inc., Occidental Power Marketing, LP, Occidental Chemical Corporation.

Description: Errata to Notice of Change in Status of Occidental Power Services, Inc., et. al.

Filed Date: 10/12/2010.

Accession Number: 20101012-5272.

Comment Date: 5 p.m. Eastern Time on Tuesday, November 2, 2010.

Docket Numbers: ER10-2078-000; ER10-2078-001.

Applicants: White Oak Energy LLC.

Description: Supplement to Market-Based Rate Application of White Oak Energy LLC.

Filed Date: 10/08/2010.

Accession Number: 20101008-5169.

Comment Date: 5 p.m. Eastern Time on Friday, October 22, 2010.

Docket Numbers: ER11-59-000.

Applicants: Entergy Texas, Inc., Entergy Arkansas, Inc., Entergy Gulf States Louisiana, LLC, Entergy Louisiana, LLC, Entergy Mississippi, Inc., Entergy New Orleans, Inc.

Description: Entergy Texas, Inc. submits tariff filing per 35.13(a)(2)(iii: Proposed Extension of ICT Arrangement to be effective 12/31/9998.

Filed Date: 10/08/2010.

Accession Number: 20101008-5028.

Comment Date: 5 p.m. Eastern Time on Friday, October 15, 2010.

Docket Numbers: ER11-81-000.

Applicants: CPower, Inc.

Description: Request for Limited Waiver and Expedited Treatment of CPower, Inc.

Filed Date: 10/08/2010.

Accession Number: 20101008-5172.

Comment Date: 5 p.m. Eastern Time on Thursday, October 21, 2010.

Docket Numbers: ER11-91-000.

Applicants: Western Electricity Coordinating Council.

Description: Notice of Proposed Cancellation of Western Electricity Coordinating Council's Reliability Management System.

Filed Date: 10/12/2010.

Accession Number: 20101012-5219.

Comment Date: 5 p.m. Eastern Time on Tuesday, November 2, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-26760 Filed 10-21-10; 8:45 am]

BILLING CODE 6717-01-P